DEPARTMENT OF TRANSPORTATION

Federal Aviation Administration

14 CFR Part 71

[Docket No. FAA-2003-16705; Airspace Docket No. 03-AGL-20]

Modification of Class D Airspace Area; Mount Clemens, MI

AGENCY: Federal Aviation Administration (FAA), DOT.

ACTION: Final rule.

SUMMARY: This action modifies the Class D airspace area at Mount Clemens, MI. Instrument Flight Rules (IFR) Category E circling procedures are being used at Selfridge Air National Guard Base, MI. This action increases the current area of the Class D airspace, allowing for a lower Circling Minimum Descent Altitude.

DATES: Effective November 25, 2004.

FOR FURTHER INFORMATION CONTACT: J. Mark Reeves, Air Traffic Division, Airspace Branch, AGL-520, Federal Aviation Administration, 2300 East Devon Avenue, Des Plaines, Illinois 60018, telephone (847) 294-7568.

SUPPLEMENTARY INFORMATION:

Background

On February 25, 2004, the FAA issued a notice proposing to modify the Class D airspace area for Selfridge Air National Guard Base, MI. The proposal was to increase the existing radius of the Class D airspace area to allow for lower IFR Category E circling minimums.

Discussion of Comment

Interested parties were invited to participate in this rulemaking proceeding by submitting written comments on the proposal. All comments received were reviewed prior to taking any final action on this matter. In response to the notice, we received twenty-four comments. All of the comments received stated objection or provided other comments on the proposal. Those objecting to the proposal expressed concern that the proposed expansion of the Class D Airspace Area would infringe upon the airspace surrounding nearby Ray Community Airport (57D), thereby limiting their ability to operate into and out of this airport under certain conditions. It was also stated that the potential decrease of flights into and out of the airport, could cause adverse economic impact.

Other commenters expressed concern that the proposed expansion would decrease the width of a Visual Flight Rules (VFR) corridor east of Selfridge ANGB., and west of the Canadian border.

Several other commenters stated that circling procedures are currently not allowed west of Selfridge ANGB, and expansion of the Class D airspace in that direction, would force aircraft to fly over more densely populated areas.

In response to the comments received, discussions were held between the FAA and the military to see if a modification could be made to the proposed expansion. As a result, the military felt that a smaller expansion could serve their needs. Except for a 1.4-mile increase to the existing Class D airspace radius to the east, the rest of the Class D airspace area will remain unchanged.

The Rule

This amendment to 14 CFR part 71 modifies the Class D airspace area at Mount Clemens, MI, for Selfridge Air National Guard Base. The area will be depicted on appropriate aeronautical charts.

The FAA has determined that this regulation only involves an established body of technical regulations for which frequent and routine amendments are necessary to keep them operationally current. Therefore this, proposed regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

The Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9L, Airspace Designations and Reporting Points, dated September 2, 2003, and effective September 16, 2003, is amended as follows:

* * * * *

Paragraph 5000 Class D airspace.

* * * * *

AGL MI D Mount Clemens, MI [Revised]

Mount Clemens, Selfridge Air National Base, MI

(Lat. 42°36′03″ N., long. 82°50′14″ W.)

That airspace extending upward from the surface to and including 3,100 feet MSL within a 4.3-mile radius of the Selfridge Air National Guard Base and within 1.5 miles west of the Selfridge TACAN 359° radial extending from the 4.3-mile radius to 5.7 miles north of the airport clockwise to 1.5 miles west of the Selfridge TACAN 191° radial then north to the 4.3-mile radius. This Class D airspace is effective during the specific dates and times established in advance by a Notice to Airmen. The effective date and time will thereafter be continuously published in the Airport/Facility Directory.

* * * * *

Issued in Des Plaines, IL, on August 5, 2004.
Nancy B. Kort,
Area Director, Central Terminal Operations.

[FR Doc. 04-19376 Filed 8-23-04; 8:45 am]

BILLING CODE 4910-13-M